DEPARTMENT OF AGRICULTURE

Animal and Plant Health Inspection Service

7 CFR Part 319

[Docket No. APHIS-2007-0117]

RIN 0579-AC90

Importation of Wooden Handicrafts From China

Correction

In rule document 2012-4962 beginning on page 12437 in the issue of Thursday, March 1, 2012 make the following correction:

On page 12439, in the third column, in footnote 2, in the third line “https://www.ippc.int/index.php?id=13399&tx_publication_pi1*showUid]=133703&frompage=13399&type=publication&subtype=&L=0#item.” should read “https://www.ippc.int/index.php?id=13399&tx_publication_pi1[showUid]=133703&frompage=13399&type=publication&subtype=&L=0#item.”

[FR Doc. C1-2012-4962 Filed 3-16-12; 8:45 am]

BILLING CODE 1505-01-D